DEPARTMENT OF ENERGY

Western Area Power Administration

Boulder Canyon Project—Post-2017 Resource Pool

Correction

In notice document 2014-18797 appearing on pages 46432-46434 in the issue of Friday, August 8, 2014, make the following correction:

On page 46433, in the table, in the first column, in the fourth line of text, “Ann Electric Cooperative, Inc.” should read “Anza Electric Cooperative, Inc.”.

[FR Doc. C1-2014-18797 Filed 8-19-14; 8:45 am]

BILLING CODE 1505-01-D